DEPARTMENT OF AGRICULTURE

Office of the Secretary

Provincial Advisory Committees

AGENCY: Office of the Secretary, USDA.

ACTION: Notice of Intent to Re-establish the Charter for the Provincial Advisory Committees.

SUMMARY: The Department of Agriculture, in consultation with the Department of the Interior, intends to re-establish the Provincial Advisory Committees (PACs) for the provinces in Oregon and Washington. This re-establishment is in response to the continued need for the PACs to provide advice on coordinating the implementation of the Record of Decision (ROD) of April 13, 1994, for Management of Habitat for Late-Succession and Old-Growth Forest Related Species within the Range of the Northern Spotted Owl. The PACs also provide advice and recommendations to promote integration and coordination of forest management activities between Federal and non-Federal entities.

FOR FURTHER INFORMATION CONTACT: Shandra L. Terry, PACs Program Manager, USDA Forest Service, Region 6 Regional Office, 333 Southwest First Avenue, Portland, Oregon 97204; by phone at 503-808-2242 or by email at sterry@fs.fed.us. Individuals who use telecommunication devices for the deaf (TDD) may call the Federal Information Relay Service (FIRS) at 1-800-877-8339 between 8:00 a.m. and 8:00 p.m., Eastern Standard Time, Monday through Friday.

SUPPLEMENTARY INFORMATION:

Background

Pursuant to the Federal Advisory Committee Act (5 U.S.C. App.), notice is hereby given that the Department of Agriculture, in consultation with the Department of the Interior, intends to re-establish the PACs. The purpose of the PACs is to facilitate the coordinated implementation of the ROD of April 13, 1994, for Management of Habitat for Late-Succession and Old-Growth Forest Related Species within the Range of the Northern Spotted Owl. The PACs consists of representatives of the following Federal agencies: Forest Service, Natural Resources Conservation Service, Bureau of Indian Affairs, Bureau of Land Management, National Marine Fisheries Service, National Park Service, U.S. Fish and Wildlife Service, U.S. Geological Survey Biological Resources Division, Environmental Protection Agency, and U.S. Army Corps of Engineers.

Ecosystem management at the province level requires improved coordination among governmental entities responsible for land management decisions and the public those agencies serve. Each PAC will provide advice and recommendations regarding implementation to promote integration and coordination of forest management activities between Federal and non-Federal entities. Each PAC will provide advice regarding implementation of a comprehensive ecosystem management strategy for Federal land within a province (provinces are defined in the ROD at E19).

Re-establishment of the PACs does not require an amendment of Bureau of Land Management or Forest Service planning documents because the re-establishment does not affect the standards and guidelines or land allocations. The Bureau of Land Management and Forest Service will provide further notice, as needed, for additional actions or adjustments when implementing interagency coordination, public involvement, and other aspects of the ROD.

PAC Membership

Each PAC will be comprised of no more than 30 members approved by the Secretary of Agriculture. This Committee will be fairly balanced in its membership in terms of the points of view represented and the functions to be performed. The PACs may include representation in the following areas:

(1) One or more representatives of the Environmental Protection Agency;

(2) One or more representatives of the United States Fish and Wildlife Service;

(3) One or more representatives of the Forest Service;

(4) One or more representatives of the BLM in each province where lands administered by BLM occur in the province;

(5) One or more representatives of the National Park Service in each province where a National Park occurs in the province;

(6) One or more representatives of the National Marine Fisheries Service;

(7) One or more representatives of the Bureau of Indian Affairs;

(8) Up to a maximum of three representatives of the government of each State within whose boundaries all or a portion of the province is located (the State agencies/departments to be represented will be determined by the Federal officials described in Paragraphs 3a(1) through 3a(7);

(9) One or more representatives of each county government within whose boundaries all or a portion of the province is located, up to a maximum of three county representatives;

(10) One or more representatives of each tribal government whose reservation, ceded land, or usual and accustomed areas are within all or a portion of the province, up to a maximum of three tribal representatives;

(11) Up to a maximum of two representatives of environmental interests;

(12) Up to a maximum of two representatives of different sectors of the forest products industry;

(13) Up to a maximum of four representatives of the recreation and tourism sectors;

(14) Three to five representatives of the following interests when those interests are determined by the Federal officials described in Paragraphs 3a(1) through 3a(7) to be needed on the respective provincial committee: Fish, wildlife, or forestry conservation organizations; special forest products interests, mining interests, grazing interests, and commercial fishing or charter fishing boat industry interests; and other interests that help achieve the purpose of these PACs;

(15) Up to a total of three representatives from the following Federal agencies when the jurisdiction or authority of those agencies are determined by the Federal officials described in Paragraphs 3a(1)(a) through 3a(7)(g) to be needed on the respective provincial committee: Bureau of Reclamation, United States Geological Survey National Biological Division, Forest Service Research, United States Army Corps of Engineers, United States Geological Survey, Bonneville Power Administration, Department of Defense, and Natural Resources Conservation Service; and

(16) Up to a maximum of six representatives representing the public at large affected by the ROD for the Northwest Forest Plan and concerned with the management of the national forests in the community.

No individual who is currently registered as a Federal lobbyist is eligible to serve as a member of the PAC. Members of the PAC serve without compensation, but may be reimbursed for travel expenses while performing duties on behalf of the PAC, subject to approval by the Designated Federal Official (DFO).

Equal opportunity practices in accordance with U.S. Department of Agriculture (USDA) policies shall be followed in all appointments to the PACs. To ensure that the recommendations of the PACs have been taken into account, the needs of the diverse groups served by the Departments, membership should include, to the extent practicable, individuals with demonstrated ability to represent all racial and ethnic groups, women and men, and persons with disabilities.

Dated: March 9, 2015.
Gregory L. Parham,
Assistant Secretary for Administration.

[FR Doc. 2015-05873 Filed 3-13-15; 8:45 am]

BILLING CODE 3411-15-P